DEPARTMENT OF HOUSING AND URBAN DEVELOPMENT

Office of Federal Housing Enterprise Oversight

12 CFR Part 1720

RIN 2550-AA22

Safety and Soundness; Correction

AGENCY: Office of Federal Housing Enterprise Oversight, HUD.

ACTION: Proposed rule; correction.

SUMMARY: This document corrects the preamble to a proposed rule published in the Federal Register of June 21, 2002, regarding the safety and soundness of the Federal National Mortgage Association (Fannie Mae) and Federal Home Loan Mortgage Corporation (Freddie Mac). The correction inserts inadvertantly omitted language in the preamble of the proposed rule.

FOR FURTHER INFORMATION CONTACT: Kathleen McLees, Federal Register Liaison Officer, telephone (202) 414-3836 (not a toll-free number), Office of Federal Housing Enterprise Oversight, Fourth Floor, 1700 G Street, NW., Washington, DC 20552. The telephone number for the Telecommunications Device for the Deaf is (800) 877-8339.

Correction

In the preamble of the proposed rule, FR Doc. 02-15678, beginning on page 42200 in the issue of June 21, 2002, make the following correction in the Supplementary Information section. On page 42201, in the second column, on line 16, after the words “in a policy guidance will”, add the word “not”. The sentence should read: “Compliance with the minimum standards articulated in a policy guidance will not preclude the agency from finding that an Enterprise is otherwise engaged in a specific unsafe or unsound practice or is in an unsafe or unsound condition, or requiring corrective or remedial action with regard to such practice or condition.”

Dated: June 27, 2002.
Kathleen K. McLees,
Federal Register Liaison Officer, Office of Federal Housing Enterprise Oversight.

[FR Doc. 02-16697 Filed 7-2-02; 8:45 am]

BILLING CODE 4220-01-P